DEPARTMENT OF HOUSING AND URBAN DEVELOPMENT

[Docket No. FR-FR-7094-N-06; OMB Control No.: 2506-0020]

60-Day Notice of Proposed Information Collection: HUD-Administered Small Cities Program Performance Assessment Report

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 26, 2026

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Urnell Johnson, PRA Liaison Officer, Department of Housing and Urban Development, 451 7th Street SW, Room 7232, Washington, DC 20410-5000.

FOR FURTHER INFORMATION CONTACT: B. Cory Schwartz, Acting Director, Office of Block Grant Assistance, Department of Housing and Urban Development, 451 7th Street SW, Washington, DC 20410; email B. Cory Schwartz at Benjamin.C.Schwartz@hud.gov, telephone 202-708-3587. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Johnson.

SUPPLEMENTARY INFORMATION: This notice informs the public that HUD is seeking approval from OMB for the information collection described in Section A.

A. Overview of Information Collection

Title of Information Collection: HUD-Administered Small Cities Program Performance Assessment Report.

OMB Approval Number: 2506-0020.

Type of Request: Extension of currently approved collection.

Form Number: HUD-4052.

Description of the need for the information and proposed use: Section 104(e) of the Housing and Community Development Act (HCDA) of 1974 requires that each grantee must submit a performance and evaluation report to HUD. A reinstatement, with change, of a currently approved collection is requested for the annual performance assessment report, submitted by the grantees in the Small Cities program enabling HUD to track program progress.

Respondents: This information collection applies to approximately 40 localities under the jurisdiction of the HUD-administered program.

Estimated Number of Respondents: 40.

Estimated Number of Responses: 40.

Frequency of Response: 1.0.

Average Hours per Response: 4.0.

Total Estimated Burden: 160.

Information collection | Number of respondents | Frequency of response | Responses per annum | Burden hour per response | Annual burden hours | Hourly cost per response | Annual cost
HUD-4052 | 40 | 1.0 | 40 | 4.0 | 160 | $36.28 | $5,804.80
** GS-12, Step 1, Hourly Basic Rate, 2025 OPM General Schedule (Base) Pay Table.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comments in response to these questions.

C. Authority

Section 2 of the Paperwork Reduction Act of 1995, 44 U.S.C. 3507.

Bryan W. Horn,
Acting Principal Deputy Assistant Secretary for Community Planning and Development.

[FR Doc. 2025-21102 Filed 11-25-25; 8:45 am]

BILLING CODE 4210-67-P